DEPARTMENT OF AGRICULTURE

Farm Service Agency

[Docket ID FSA-2021-0014]

Information Collection Request; 2017 Wildfires and Hurricanes Indemnity Program (WHIP) and Quality Loss Adjustment (QLA) Program

AGENCY: Farm Service Agency, USDA.

ACTION: Notice; request for comments.

SUMMARY: In accordance with the Paperwork Reduction Act, the Farm Service Agency (FSA) is requesting comments from all interested individuals and organizations on an extension of a currently approved information collection that supports the 2017 Wildfires and Hurricanes Indemnity Program (WHIP) and the Quality Loss Adjustment (QLA) Program. FSA provides payments to eligible producers who suffered eligible crop, tree, bush, and vine losses resulting from a qualifying disaster event. FSA also administers the QLA Program to provide financial assistance to eligible producers who experienced a crop quality loss due to a qualifying disaster event in calendar years 2018 or 2019. The qualifying disaster events are listed in the Background section below.

DATES: We will consider comments that we receive by February 14, 2022.

ADDRESSES: We invite you to submit comments on this notice. You may submit comments by any of the following methods:

• Federal eRulemaking Portal: Go to: www.regulations.gov and search for Docket ID FSA-2021-0014. Follow the online instructions for submitting comments.

• Mail, Hand-Delivery, or Courier: Director, Safety Net Division, FSA, USDA, 1400 Independence Avenue SW, Stop 0510, Washington, DC 20250- 0522.

You may also send comments to the Desk Officer for Agriculture, Office of Information and Regulatory Affairs, Office of Management and Budget, Washington, DC 20503. Copies of the information collection may be requested by contacting Brittany Ramsburg.

FOR FURTHER INFORMATION CONTACT: For specific questions related to collection activity, contact Brittany Ramsburg; (202) 260-9303; or email; Brittany.ramsburg@usda.gov. Persons with disabilities who require alternative means for communication should contact the USDA Target Center at (202) 720-2600 or (844) 433-2774 (toll-free nationwide).

SUPPLEMENTARY INFORMATION:

Background

FSA is announcing plans to extend the information collection approval of a currently approved information collection that supports the 2017 Wildfires and Hurricanes Indemnity Program (WHIP) and the Quality Loss Adjustment (QLA) Program. FSA provides payments to eligible producers who suffered eligible crop, tree, bush, and vine losses resulting from a qualifying disaster event that occurred in the 2017 calendar year under WHIP, which was authorized by Bipartisan Budget Act of 2018 (BBA) (Pub. L. 115-123). FSA also administers the QLA Program to provide financial assistance to eligible producers who experienced a crop quality loss due to a qualifying disaster event in calendar years 2018 or 2019, which was authorized by the Additional Supplemental Appropriations for Disaster Relief Act, 2019 (Pub. L. 116-20), as amended by the Further Consolidated Appropriations Act, 2020 (Pub. L. 116-94).

Qualifying disaster event means:

• For 2017 WHIP, a hurricane, wildfire, or Tropical Storm Cindy or related condition that occurred in the 2017 calendar year; extreme cold in calendar year 2017 for losses of peach and blueberry crops in calendar year 2017; and extreme cold and hurricane damage in calendar year 2017 for blueberry productivity losses in calendar year 2018; and

• For QLA, a hurricane, flood, tornado, typhoon, volcanic activity, snowstorm, wildfire, excessive moisture, qualifying drought, or related condition that occurred in the 2018 or 2019 calendar year.

Extension

Title: 2017 WHIP and Block Grant to Florida and Quality Loss Adjustment (QLA) Program.

OMB Control Number: 0560-0291.

Type of Request: Extension.

OMB Expiration Date: 03/31/2022.

Abstract: This information collection is required to support both the regulation in 7 CFR part 760, subpart O, for 2017 WHIP requirements for eligible producers who suffered eligible crop, tree, bush, and vine losses resulting from a qualifying disaster event. The information collection is necessary to evaluate the application and other required paperwork for determining the producer's eligibility and the producer's payment calculations. FSA also granted funds to Florida to provide the payments to eligible citrus crop growers; the Florida grantee used the same FSA application for the growers. FSA also administers the QLA Program to provide financial assistance to crop producers who experienced a crop quality loss due to a qualifying disaster event in calendar years 2018 or 2019. The information collection is being extended to continue the OMB approval for any additional information that may be needed until the payment process is fully completed.

For the following estimated total annual burden on respondents, the formula used to calculate the total burden hour is the estimated average time per response multiplied by the estimated total annual responses.

Estimate of Respondent Burden: Public reporting burden for this information collection is estimated to average 0.6983 hours per response, including the time for reviewing instructions, searching existing data sources, gathering and maintaining the data needed and completing and reviewing the collections of information.

Type of Respondents: Producers or farmers.

Estimated Annual Number of Respondents: 236,100.

Estimated Number of Reponses per Respondent: 1.

Estimated Total Annual Responses: 236,100.

Estimated Average Time per Response: 0.78 hours.

Estimated Annual Burden on Respondents (WHIP applicants): 183,454.

Estimated Annual Burden on Respondents (Florida Grant): 1,097.

Estimated Total Annual Burden on Respondents: 184,551.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility, and clarity of the information to be collected; or

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Steven Peterson,
Acting Administrator, Farm Service Agency.

[FR Doc. 2021-27080 Filed 12-14-21; 8:45 am]

BILLING CODE 3410-05-P